ENVIRONMENTAL PROTECTION AGENCY

[FRL-7830-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held October 26-28, 2004 at the Hotel Washington, Washington, DC. The CHPAC was created to advise the Environmental Protection Agency on science, regulations, and other issues relating to children's environmental health.

DATES: The Science and Regulatory Work Groups will meet Tuesday, October 26; Plenary sessions will take place Wednesday, October 27 and Thursday, October 28.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Tuesday October 26 from 9 a.m. to 5 p.m. The plenary CHPAC will meet on Wednesday, October 27 from 9 a.m. to 5 p.m., with a public comment period at 5:15 p.m., and on Thursday, October 28 from 8:30 a.m. to 12:30 p.m.

The plenary session will open with introductions and a review of the agenda and objectives for the meeting. Agenda items include highlights of the Office of Children's Health Protection (OCHP) activities and a presentation on EPA's Children's Health Centers. Other potential agenda items include a presentation on children's health indicators and FQPA implementation.

Dated: October 18, 2004.
William Sanders,
Acting Designated Federal Official.

Children's Health Protection Advisory Committee

Hotel Washington, 515 15th Street, NW., Washington, DC 20004-1099, October 26-28, 2004.

Draft Agenda

Tuesday, October 26, 2004

Work Group Meetings

Wednesday, October 26, 2004

Plenary Session

8:30 Coffee

9 Welcome, Introductions, Review Meeting Agenda

9:10 Highlights of Recent OCHP Activities

9:30 Remarks from Steve Johnson

10:30 Break

10:45 Science Workgroup Report

11:45 Presentation: EPA Briefing on Children's Health Centers

12:30 Lunch (on your own)

1:45 Regulatory Work Group Report

3:30 Break

3:45 Presentation: Update on Children's Health Indicators

5:15 Public Comment

5:30 Adjourn

Thursday, October 27, 2004

8 Coffee

8:30 Discussion of Day One

8:45 Discuss and Agree on Recommendation Letters and Other Action Items

10:15 Break

10:30 Presentation: FQPA Implementation

12:15 Wrap Up/Next Steps

12:30 Adjourn Plenary

[FR Doc. 04-24119 Filed 10-26-04; 8:45 am]

BILLING CODE 6560-50-P